DEPARTMENT OF THE INTERIOR

Bureau of Indian Affairs

Privacy Act of 1974; as Amended; Notice To Amend an Existing System of Records

AGENCY: Bureau of Indian Affairs, Interior.

ACTION: Notice of amendment to an existing system of records.

SUMMARY: Pursuant to the provisions of the Privacy Act of 1974, as amended, the Department of the Interior (DOI) is issuing a public notice of its intent to amend Bureau of Indian Affairs (BIA) Privacy Act system of records, “Indian Social Services Case Files—Interior, BIA-8” to change the name of the system to the “Financial Assistance and Social Services—Case Management System, Interior/BIA-8,” and update the categories of individuals and records in the system, the authorities, routine uses, and policies and practices for records storage and disposition. This system is used to provide services to individual Indians who apply for and receive social services and direct assistance from the BIA.

DATE: Comments must be received by October 24, 2011. The amendments to the system will be effective October 24, 2011.

ADDRESSES: Any person interested in commenting on this notice may do so by: submitting comments in writing to Willie Chism, Indian Affairs Privacy Act Officer, 625 Herndon Parkway, Herndon, Virginia 20170; hand-delivering comments to Willie Chism, Indian Affairs Privacy Act Officer, 625 Herndon Parkway, Herndon, Virginia 20170; or e-mailing comments to Willie.Chism@bia.gov.

FOR FURTHER INFORMATION CONTACT: Deputy Bureau Director for Indian Services, Division of Human Services, 1849 C Street, NW., MS 4513-MIB, Washington, DC 20240, telephone number (202) 513-7640.

SUPPLEMENTARY INFORMATION:

I. Background

The Bureau of Indian Affairs (BIA) maintains the “Indian Social Services Case Files—Interior, BIA-8” system of records, which it is renaming the “Financial Assistance and Social Services—Case Management System, Interior/BIA-8.” The purpose of this system is to provide assistance to individual Indians who apply for and receive social services and direct assistance from the Bureau of Indian Affairs. The amendments to the system will include revising the system name and adding a routine use to comply with 5 U.S.C. 552a(b)(3) of the Privacy Act for appropriate systems specifically applying to the disclosure of information in connection with response and remedial efforts in the event of a data breach. Other amendments to the system will include updating data in the following fields: System location, categories of individuals covered by the system; categories of records in the system; authority for maintenance of the system; routine uses of records maintained in the system, including categories of users and the purposes of such uses; policies and practices for storing, retrieving, accessing, retaining, and disposing of records in the system. This system notice was last published on August 21, 1990 (55 FR 34085).

The amendments to the system will be effective as proposed at the end of the comment period (the comment period will end 40 days after the publication of this notice in the Federal Register), unless comments are received which would require a contrary determination. DOI will publish a revised notice if changes are made based upon a review of the comments received.

II. Privacy Act

The Privacy Act of 1974, as amended (5 U.S.C. 552a), embodies fair information principles in a statutory framework governing the means by which Federal Agencies collect, maintain, use, and disseminate individuals' personal information. The Privacy Act applies to information that is maintained in a “system of records.” A “system of records” is a group of any records under the control of an agency for which information is retrieved by the name of an individual or by some identifying number, symbol, or other identifying particular assigned to the individual. In the Privacy Act, an individual is defined to encompass U.S. citizens or lawful permanent residents. As a matter of policy, DOI extends administrative Privacy Act protections to all individuals. Individuals may request access to their own records that are maintained in a system of records in the possession or under the control of DOI by complying with DOI Privacy Act regulations, 43 CFR part 2.

The Privacy Act requires each agency to publish in the Federal Register a description denoting the type and character of each system of records that the agency maintains, the routine uses that are contained in each system in order to make agency record keeping practices transparent, to notify individuals regarding the uses of their records, and to assist individuals to more easily find such records within the agency. Below is the description of the Bureau of Indian Affairs, Financial Assistance and Social Services—Case Management System, Interior/BIA-8, system of records.

In accordance with 5 U.S.C. 552a(r), DOI has provided a report of this system of records to the Office of Management and Budget and to Congress.

III. Public Disclosure

Before including your address, phone number, e-mail address, or other personal identifying information in your comment, you should be aware that your entire comment, including your personal identifying information, may be made publicly available at any time. While you can ask us in your comment to withhold your personal identifying information from public review, we cannot guarantee that we will be able to do so.

Dated: September 1, 2011.
Willie S. Chism,
Indian Affairs Privacy Act Officer, Assistant Secretary—Indian Affairs.

SYSTEM NAME:

Financial Assistance and Social Services—Case Management System, Interior/BIA-8.

SYSTEM LOCATION:

This system is located at the Bureau of Indian Affairs, Office of Information Operations (OIO), 1011 Indian School Rd., NW., Suite 177, Albuquerque, NM 87104. Records may also be located in regional offices providing social services and direct assistance to individual Indians.

CATEGORIES OF INDIVIDUALS COVERED BY THE SYSTEM:

Individuals who have applied for or are receiving social services or direct assistance from the BIA, including children, adults, elderly, and family members; individuals who provide services such as foster care, residential care, guardianship, and adoption subsidy; and individuals who provide services from funeral homes, local businesses and other Federal, state, local and tribal provider agencies.

CATEGORIES OF RECORDS IN THE SYSTEM:

The system contains records and information pertaining directly to individuals including name, Social Security Number, Date of Birth, Date of Death, Tribal Enrollment Information, Individual Indian Monies (IIM) Trust Account Information, telephone number, address, aliases, marital status, financial and educational information, and account number. Records also includes information on business entities, organizations, individuals, and Federal, state, local or tribal agencies that provide social services or assistance to individuals covered by this system. Other records may include case files and related card files giving history of social services and direct assistance to individual Indians, and records concerning individuals which have arisen as a result of that individual's receipt of payment or overpayment of direct assistance funds which the individual was not entitled and/or for the misuse of funds disbursed under the direct entitlement program.

AUTHORITY FOR MAINTENANCE OF THE SYSTEM:

25 U.S.C. 13, the Snyder Act of 1924; 25 CFR part 20, Financial Assistance and Social Services Program; 25 CFR Part 23, Indian Child Welfare Act; and 25 CFR Part 115, Trust Funds for Tribes and Individual Indians.

ROUTINE USES OF RECORDS MAINTAINED IN THE SYSTEM, INCLUDING CATEGORIES OF USERS AND THE PURPOSES OF SUCH USES:

The purposes of the system are (a) To provide individual records on social services and direct assistance to individual Indians; (b) to provide management with an automated information system for program planning, management utilization, and adequate reporting for performance and compliance management; (c) to improve the case worker's productivity and decision-making process by providing more complete case information, while enabling better resource management; (d) to automate the application process and case workflow to ensure compliance with eligibility criteria; (e) to provide adequate tracking and record-keeping; and (f) to support the financial payments to eligible Indian clientele.

Disclosures outside DOI may be made without the consent of the individual to whom the record pertains under the routine uses listed below:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs whether maintained by the Department or another agency or entity that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. 3711(e)(1), have been met.

(14) To another Federal agency, state or local government, Indian tribal group, or to any individual or establishment that will have jurisdiction whether by contract to the BIA, by assumption of trust responsibilities or by other means, for social services programs now controlled by the BIA.

(15) To another Federal agency, state or local government, or Indian tribal governmental officials responsible for administering child protective services in carrying out his or her official duties.

(16) To a guardian or guardian ad litem of a child named in the report.

(17) To another Federal agency, state or local government, or Indian tribal agencies authorized to care for, treat, or supervise abused or neglected children whose policies also require confidential treatment of information.

(18) To members of community child protective teams for the purposes of establishing a diagnosis, formulating a treatment plan, monitoring the plan, investigating report of suspected physical child abuse or neglect and making recommendations to the appropriate court of competent jurisdiction, whose policies also require confidential treatment of information.

POLICIES AND PRACTICES FOR STORING, RETRIEVING, ACCESSING, RETAINING AND DISPOSING OF RECORDS IN THE SYSTEM: STORAGE:

Records are maintained in paper form in file folders stored in file cabinets, and electronic media such as personal computers, magnetic disk, diskette, and computer tapes. The electronic records are contained in removable drives, computers, email and electronic databases.

RETRIEVABILITY:

Information within this system can be retrieved by an individual's first name, last name, Social Security Number, Date of Birth, Date of Death, Tribal Enrollment Information, IIM Trust Account Information, telephone number, aliases and account number.

SAFEGUARDS:

Records are maintained in accordance with 43 CFR 2.51, Privacy Act safeguards for records. Access is provided on a need-to-know basis. During working hours, paper records are maintained in locked filed cabinets under the control of authorized personnel.

Electronic records are safeguarded by permissions set to “Authenticated Users” which requires password login. The computer servers in which records are stored are located in Department of the Interior facilities that are secured by alarm systems and off-master key access. Access granted to individuals is password protected. The Department's Privacy Act Warning notice appears on the monitor screens when users access the System. Backup tapes are stored in a locked and controlled room, in a secure off-site location. The tapes are kept on the Data Center floor for several weeks and then shipped to Iron Mountain, a secure off site location. Access to the Data Center floor is controlled by key card and only a select number of people have access. The Security Plan addresses the Department's Privacy Act minimum safeguard requirements for Privacy Act systems at 43 CFR 2.51. A Privacy Impact Assessment was conducted to ensure that Privacy Act requirements and safeguard requirements are met. The assessment verified that appropriate controls and safeguards are in place. Personnel authorized to access the system must complete all Security, Privacy, and Records management training and sign the Rules of Behavior.

RETENTION AND DISPOSAL:

Paper records are covered by Indian Affairs Records Schedule (IARS) records series 3600, and have been scheduled as permanent records under NARA Job No. N1-075-05-1 approved on March 31, 2005. Records are maintained in the office of records for a maximum of 5 years after the end of the calendar year in which the case or agreement is closed and then retired to the American Indian Records Repository which is a Federal Records Center. In accordance with the Indian Affairs Records Schedule, the subsequent legal transfer of records to the National Archives of the United States will be as jointly agreed to between the United States Department of the Interior and the National Archives and Records Administration (NARA).

A records retention schedule for the electronic records in this system is being developed and will be submitted to NARA for scheduling and approval. Pending approval by NARA, electronic records will be treated as permanent records. Data backups or copies captured on magnetic disk, diskette and computer tapes that are maintained separately from database files are temporary and are retained in accordance with General Records Schedules (GRS) 20/8 and 24/4(a).

SYSTEM MANAGER AND ADDRESS:

Deputy Bureau Director for Indian Services, Division of Human Services, 1849 C Street, NW., MS 4513-MIB, Washington, DC 20240.

NOTIFICATION PROCEDURES:

An individual requesting notification of the existence of records on himself or herself should send a signed, written inquiry to the System Manager identified above. The request envelope and letter should both be clearly marked “PRIVACY ACT INQUIRY.” A request for notification must meet the requirements of 43 CFR 2.60.

RECORDS ACCESS PROCEDURES:

An individual requesting records on himself or herself should send a signed, written inquiry to the System Manager identified above. The request should describe the records sought as specifically as possible. The request envelope and letter should both be clearly marked “PRIVACY ACT REQUEST FOR ACCESS.” A request for access must meet the requirements of 43 CFR 2.63.

CONTESTING RECORDS PROCEDURES:

An individual requesting corrections or the removal of material from his or her records should send a signed, written request to the System Manager identified above. A request for corrections or removal must meet the requirements of 43 CFR 2.71.

RECORD SOURCE CATEGORIES:

The information in the system is obtained from individuals applying for or receiving social services or direct assistance from BIA; individuals providing services for foster care, residential care, guardianship, and adoption subsidy; and individuals providing services from funeral homes, local businesses, and provider agencies. The Application for Financial Assistance and Social Services and the Individual Self-Sufficiency Plan (OMB Control No. 1076-0017), signed by the client, permits the BIA to gather information from other agencies and programs, including tribal, local, state, and/or Federal programs from which the individual received services or assistance.

EXEMPTIONS CLAIMED FOR THE SYSTEM:

None.

[FR Doc. 2011-23340 Filed 9-13-11; 8:45 am]

BILLING CODE 4310-4J-P